DEPARTMENT OF COMMERCE

National Oceanic and Atmospheric Administration

RIN 0648-XA355

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration. This EFP application would exempt commercial fishing vessels from the following Federal American lobster regulations: Trap escape vent requirements to allow 12 federally permitted commercial fishing vessels to utilize a maximum of 500 ventless traps to collect scientific information on American lobsters, including juveniles, in Lobster Conservation Management Areas (LCMAs) 3, 4, and 5 from June through November 2011. This proposed project would be conducted by the New Jersey Division of Fish and Wildlife (NJ DFW) in conjunction with the already present New Jersey At-Sea Lobster Observer Program and New Jersey commercial fishermen.

Regulations under the Magnuson-Stevens Fishery Conservation and Management Act require publication of this notification to provide interested parties the opportunity to comment on applications for proposed EFPs.

DATES: Comments must be received on or before May 10, 2011.

ADDRESSES: Comments on this notice may be submitted by e-mail. The mailbox address for providing e-mail comments is NERO.EFP@noaa.gov. Include in the subject line “Comments on NJ DFW Lobster EFP.” Written comments should be sent to Patricia A. Kurkul, Regional Administrator, NMFS, NE Regional Office, 55 Great Republic Drive, Gloucester, MA 01930. Mark the outside of the envelop “Comments on NJ DFW Lobster EFP.”

• Fax: (978) 281-9135.

FOR FURTHER INFORMATION CONTACT: Carol Shé, Fishery Policy Analyst, 978-282-8464, Carol.She@noaa.gov.

SUPPLEMENTARY INFORMATION: NJ DFW submitted a complete application for an EFP on March 21, 2011, to conduct commercial fishing activities that the regulations would otherwise restrict. This EFP application would exempt commercial fishing vessels from the following Federal regulations: Lobster trap escape vent requirements specified under 50 CFR 697.21(c)(2) and (c)(4). The EFP would authorize 12 federally permitted vessels to be exempted from parts of the Federal lobster regulations to allow the participating vessels to fish modified lobster traps to attain an accurate characterization of abundance for juvenile and adult lobsters in waters off the coast of New Jersey and to determine several variables in the stock dynamics, e.g., whether there has been a significant decline in juvenile and adult abundance, and/or whether this decline is occurring throughout the range of the Southern New England (SNE) stock.

NJ DFW would work in conjunction with the already present New Jersey At-Sea Lobster Observer Program to record: Number of lobsters caught; number of traps hauled; set-over-days; trap and bait type; carapace length (to the nearest millimeter); sex; shell hardness; culls and shell damage; external gross pathology (including shell disease symptoms); mortality; and presence of extruded ova on females through its Ventless Trap Survey. The Ventless Trap Survey project is designed to generate robust estimates of lobster abundance off the coast of New Jersey, from 0-60 nautical miles (0-97 kilometers), offshore, in the northern range of the SNE stock area and would be funded largely by the participating fishers through supply of gear, crew, and vessel time. The scientific personnel would be funded through the New Jersey Atlantic Coastal Cooperative Statistics Program (NJ ACCSP), particularly the NJ ACCSP At-Sea Lobster Observer Program for Fishing Year 2011.

The resulting data would be utilized by NJ DFW staff, Atlantic States Marine Fisheries Commission Technical Committees, and Stock Assessment Sub-Committees. Also, comparisons would be made of results from data collected in LCMAs 1, 2, and 6 with data collected in LCMAs 3, 4, and 5. Finally, an index of lobster stock biomass in waters off New Jersey, in relation to overall commercial landings of lobster in New Jersey, would be made through the use of catch per unit effort of sublegal and legal size lobsters taken during observer trips in New Jersey.

Each vessel would fish approximately 20-50 ventless traps within their strings of existing lobster traps. With exception of the waiver of the trap escape vent requirement, trap gear would be compliant with all Federal lobster regulations, including the Large Whale Take Reduction Plan gear configuration requirements.

This EFP would not authorize the deployment of additional lobster traps in the waters off New Jersey. All traps, including ventless traps, would be included under each vessel's existing maximum LCMA-specific trap allocation as determined by NMFS. Each ventless trap would be placed randomly on already existing strings of vented pots of the same dimensions and be randomly selected throughout the range of the survey area. All scientific ventless sampling gear would be identified with a state issued scientific trap tag provided by NJ DFW, and be affixed with both the proper state scientific tags and Federal trap tags. Records of latitude and longitude of trap/string location would be provided to the NJ DFW Bureau of Law Enforcement upon request. Trap deployment, maintenance, and hauling would be completed by participating commercial lobstermen. The NJ ACCSP staff would record environmental data when present on at-sea observer trips including: Depth; dissolved oxygen; conductivity; salinity; and temperature profile from the surface to bottom.

Sampling would be conducted over five different depth zones from a minimum of 60 ft (18 ms) to a maximum of 220 ft (67 ms) running the length of the New Jersey Mudhole, Glory Hole, and Chicken Canyon, and other historic lobster fishing areas located within LCMAs 3 and 4 and over various lobster grounds such as the 17 Fathom Bank in LCMA 5.

This project would not authorize the deployment of any additional trap gear; therefore, minimal environmental impacts would be anticipated by this EFP above those already occurring as part of a commercial lobster trap trawl deployed under usual industry conditions. Impacts to the lobster resource would be negligible. Any sublegal lobsters caught would briefly be retained on-board only for the purposes of recording their size, sex, and presence of shell disease, before being promptly released back into the ocean, as would those lobsters that do not fall within the minimum and maximum legal gauge sizes. There would be minimal to no impacts to bycatch species, as all bycatch species hauled from modified gear would be returned promptly to the ocean. Additionally, minimal to no impacts would occur on benthic habitat over that which occurs under existing lobster trap fishing activities. Finally, the gear would be compliant with the Atlantic Large Whale Take Reduction Plan, and would be deployed under usual industry conditions; therefore, impacts to protected resources would fall within those impacts already analyzed as part of the October 29, 2010, Biological Opinion for the American lobster fishery.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 20, 2011.
Margo Schulze-Haugen,
Acting Director, Office of Sustainable Fisheries, National Marine Fisheries Service.

[FR Doc. 2011-9944 Filed 4-22-11; 8:45 am]

BILLING CODE 3510-22-P